DEPARTMENT OF COMMERCE

International Trade Administration

Overseas Trade Missions

AGENCY: International Trade Administration, Department of Commerce.

ACTION: Notice.

SUMMARY: The Department of Commerce invites U.S. companies to participate in the below listed overseas trade missions. For a more complete description, obtain a copy of the mission statement from the contact officer indicated for each individual mission below.

Bonjour Quebec!

Montreal, Canada, October 28-29, 2003, recruitment closes September 15, 2003.

For Further Information Contact: Mr. Pierre Richer, U.S. Commercial Service Montreal, telephone (514) 908-3661, or email Pierre.Richer@mail.doc.gov.

Aerospace Executive Service at the Dubai 2003

Dubai, United Arab Emirates, December 8-10, 2003, recruitment closes November 1, 2003.

For Further Information Contact: Mr. Adel Fehmi, U.S. Commercial Service, Dubai, telephone: 011-971-4-311-6128 or email Adel.Fehmi@mail.doc.gov.

Healthcare Technologies Trade Mission

Brussels, Belgium and Amsterdam, the Netherlands, February 9-13, 2004, recruitment closes January 9, 2004.

For Further Information Contact: Mr. William Kutson, U.S. Department of Commerce, telephone (202) 482-2839, or e-mail William.Kutson@mail.doc.gov.

Information and Communication Technologies Trade Mission

Singapore, Kuala Lumpur, Malaysia and Bangkok, Thailand, March 15-23, 2004, recruitment closes January 30, 2004.

For Further Information Contact: Mr. Matthew H. Wright, U.S. Department of Commerce, telephone (202) 482-2567, or e-mail Matthew.Wright@mail.doc.gov.

Recruitment and selection of private sector participants for these trade missions will be conducted according to the Statement of Policy Governing Department of Commerce Overseas Trade Missions dated March 3, 1997.

For Further Information Contact: Mr. John Klingelhut, U.S. Department of Commerce, telephone (202)482-3304 or e-mail John.Klingelhut@mail.doc.gov.

Dated: August 19, 2003.
John Klingelhut,
Senior Advisor, Export Promotion Services.

[FR Doc. 03-21731 Filed 8-25-03; 8:45 am]

BILLING CODE 3510-DR-P